DEPARTMENT OF DEFENSE

Department of the Navy

Notice of Intent To Grant Exclusive Patent License; Hart Biologicals, Ltd

AGENCY: Department of the Navy, DoD.

ACTION: Notice.

SUMMARY: The Department of the Navy hereby gives notice of its intent to grant to Hart Biologicals, Ltd., a revocable, nonassignable, exclusive license to practice in the field of use for production of calibration and control materials for use in the International Normalized Ratio monitor blood coagulation test market in the United States and certain foreign countries, the Government-owned inventions described in U.S. Patent No. 6,358,678: Applications of Reversible Crosslinking and Co-Treatment in Stabilization and Viral Inactivations of Erythrocytes, Navy Case No. 78,253.//U.S. Patent No. 6,436,705: Shape Stabilized Erythrocytes, Navy Case No. 83,638 and any continuations, divisionals or re-issues thereof.

DATES: Anyone wishing to object to the grant of this License must file written objections along with supporting evidence, if any, not later than July 20, 2006.

ADDRESSES: Written objections are to be filed with the Naval Research Laboratory, Code 1004, 4555 Overlook Avenue, SW., Washington, DC 20375-5320.

FOR FURTHER INFORMATION CONTACT: Head, Technology Transfer Office, NRL Code 1004, 4555 Overlook Avenue, SW., Washington, DC 20375-5320, telephone 202-767-7230. Due to U.S. Postal delays, please fax 202-404-7920 OR E-mail: techtran@utopia.nrl.navy.mil or use courier delivery to expedite response.

(Authority: 35 U.S.C. 207, 37 CFR part 404.)

Dated: June 23, 2006.
M. A. Harvison,
Lieutenant Commander, Judge Advocate General's Corps, U.S. Navy, Federal Register Liaison Officer.

[FR Doc. E6-10429 Filed 7-3-06; 8:45 am]

BILLING CODE 3810-FF-P